DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southwest Region Vessel Identification Requirements.

Form Number(s): None.

OMB Approval Number: 0648-0361.

Type of Request: Regular submission.

Burden Hours: 1,348.

Number of Respondents: 1,750.

Average Hours per Response: Purse seine vessel marking, 1 hour and 15 minutes; all other vessel marking, 45 minutes.

Needs and Uses: The vessels in certain federally-regulated fisheries off the U.S. west coast are required to display the vessel's official number in three locations (port and starboard sides of the deckhouse or hull, and an appropriate weather deck). For the purse seine vessels, the vessel's official number is required on the above locations, one skiff, and one helicopter.

These requirements are necessary to aid enforcement of fishery regulations.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 10, 2008.
Gwellnar Banks,
Management Analyst, Office of the Chief Information Officer.

[FR Doc. E8-8053 Filed 4-15-08; 8:45 am]

BILLING CODE 3510-22-P